DEPARTMENT OF ENERGY

Correction on Expression of Interest Regarding the Scope of an Intended Solicitation for Superconductivity Partnerships With Industry (SPI) Projects

AGENCY: Office of Electricity Delivery and Energy Reliability, Department of Energy.

ACTION: Correction on notice of inquiry and opportunity to comment.

SUMMARY: In a release included in the Federal Register on Tuesday, August 2nd 2005, the Superconductivity Program within the U.S. Department of Energy solicited comments on a pending solicitation for Superconductivity Partnerships with Industry (SPI) Projects. That notice included an e-mail address for receiving electronic comments. The included address was incorrect; the correct address for responses is SPIcomments@tms-hq.com (repeated below).

DATES: Written comments are to be filed electronically by e-mailing to: SPIcomments@tms-hq.com no later than 5 p.m. eastern time September 30, 2005. Comments can also be submitted at the address listed below.

ADDRESSES: Office of Electricity Delivery and Energy Reliability, OE-2, Attention: SPI Comments, U.S. Department of Energy, Forrestal Building, Room 6H-034, 1000 Independence Avenue, SW., Washington, DC 20585.

Note that U.S. Postal Service mail sent to DOE continues to be delayed by several weeks due to security screening. Submission via FedEx or electronically is therefore encouraged.

FOR FURTHER INFORMATION CONTACT: Dr. James Daley, Office of Electricity Delivery and Energy Reliability, OE-2, Attention: SPI Comments, U.S. Department of Energy, 1000 Independence Avenue, SW., Washington, DC 20585.

Dr. James Daley,
Office of Electricity Delivery and Energy Reliability.

[FR Doc. 05-16130 Filed 8-12-05; 8:45 am]

BILLING CODE 6450-01-M